NATIONAL SCIENCE FOUNDATION

Agency Notice of Record of Decision for the Arecibo Observatory in Puerto Rico

AGENCY: National Science Foundation.

ACTION: Notice of Record of Decision.

SUMMARY: On November 15, 2017, the National Science Foundation (NSF) signed a Record of Decision (ROD) for the Arecibo Observatory in Puerto Rico. This important step concludes the agency's decision-making process with respect to the general path forward for facility operations in a budget-constrained environment, and provides the basis for a future decision regarding a new collaborator.

FOR FURTHER INFORMATION CONTACT: Elizabeth A. Pentecost, Project Administrator, National Science Foundation, Division of Astronomical Sciences, 2415 Eisenhower Avenue, Room W 9152, Alexandria, VA 22314. Telephone: 703-292-4907, Email: epenteco@nsf.gov.

SUPPLEMENTARY INFORMATION: NSF issued its ROD following authorization from the National Science Board on November 9, 2017. The ROD was preceded by an extensive environmental impact analysis and broad input from the public and the scientific community, including the National Academies 6th Decadal Survey released in 2010, the NSF Division of Astronomical Sciences Portfolio Review Committee Reportreleased in 2012, and the NSF Geospace Sciences Portfolio Review Committee Report released in 2016.

The ROD formalizes the selection of NSF's Preferred Alternative: collaboration with interested parties to maintain science-focused operations at the Observatory with reduced agency funding. The selection of this Alternative will allow important research to continue while accommodating the agency's budgetary constraints and its core mission to support cutting-edge science and education.

NSF remains deeply concerned about the impacts from recent hurricanes on Arecibo Observatory staff, the facility, and all citizens of Puerto Rico. The ROD arrives at a challenging time, but is necessary for the agency to secure a future for the Observatory, as it will allow negotiations to begin with potential collaborators who may take over management and operations as NSF funding is reduced.

Prior to issuance of the ROD, a Final Environmental Impact Statement (FEIS) was prepared in compliance with the Federal National Environmental Policy Act, 42 U.S.C. 4321, et seq. (NEPA), dated July 27, 2017, and availability of it was noticed in the Federal Register on August 4, 2017. As detailed in the FEIS, five Action Alternatives and a No-Action Alternative, were considered for the proposed change in operations of Arecibo Observatory. These Alternatives include:

• Alternative 1: Collaboration with Interested Parties for Continued Science-focused Operations (Agency-preferred Alternative)

• Alternative 2: Collaboration with Interested Parties for Transition to Education-focused Operations

• Alternative 3: Mothballing of Facilities

• Alternative 4: Partial Demolition and Site Restoration

• Alternative 5: Complete Demolition and Site Restoration

• No-Action Alternative: Continued NSF Investment for Science-focused Operations

The Preferred Alternative, which is also the environmentally preferable action alternative, was selected in the ROD. The ROD also reflected NSF's consideration of the outcomes of its compliance obligations under Section 106 of the National Historic Preservation Act and the Endangered Species Act.

The ROD is now available in both English and Spanish on the internet at: https://www.nsf.gov/mps/ast/env_impact_reviews/env_rev_arecibo.jsp in Adobe® portable document format (PDF). Limited hard copies of the ROD are also available, on a first request basis, by contacting the NSF contact, Elizabeth A. Pentecost, Project Administrator, National Science Foundation, Division of Astronomical Sciences, 2415 Eisenhower Avenue, Room W 9152, Alexandria, VA 22314, Telephone: 703-292-4907, Email: epenteco@nsf.gov.

Dated: December 20, 2017.
Suzanne H. Plimpton,
Reports Clearance Officer, National Science Foundation.

[FR Doc. 2017-27723 Filed 12-22-17; 8:45 am]

BILLING CODE 7555-01-P